DEPARTMENT OF TRANSPORTATION

Surface Transportation Board

[STB Finance Docket No. 35192]

Lehigh Railway, LLC.—Lease and Operation Exemption—Norfolk Southern Railway Company

Lehigh Railway, LLC. (LRWY), a noncarrier, has filed a verified notice of exemption under 49 CFR 1150.31 to lease from Norfolk Southern Railway Company (NSR) and operate approximately 56.0 miles of NSR's rail line (the Line), extending between approximately milepost IS 269.5, at Athens, PA, and approximately milepost IS 213.5, at Mehoopany, PA, in Bradford and Wyoming counties, PA.¹ The line also includes any sidings, sidetracks, yards or facilities presently owned by NSR that are accessed via the line. NSR will also grant LRWY operating rights to certain designated track north of milepost IS 269.5 extending into Sayre, PA, solely for interchange with NSR.²

¹ The line does not connect with the Southern Tier, owned and operated by NSR.

² The line does not include properties south of milepost IS 213.5 which have been leased by NSR to the Reading, Blue Mountain, and Northern Railroad and to Proctor and Gamble Corporation at Mehoopany since 2001. If these properties revert back to the control of NSR during the term of the lease, NSR may, at its option, and subject to the approval of the Surface Transportation Board, if required, elect to assign the property or properties at Mehoopany to the lease.

This transaction is related to a concurrently filed verified notice of exemption in STB Finance Docket No. 35193, Steven C. May—Continuance in Control Exemption—Lehigh Railway, LLC. In that proceeding, Steven C. May, has filed a verified notice of exemption to continue in control of LRWY upon LRWY's becoming a Class III rail carrier.

LRWY certifies that its projected annual revenues as a result of the transaction will not result in LRWY becoming a Class II or Class I rail carrier and further certifies that its projected annual revenues will not exceed $5 million.

The transaction is expected to be consummated on or soon after November 29, 2008, the effective date of the exemption.

Pursuant to the Consolidated Appropriations Act, 2008, Public Law 110-161, section 193, 121 Stat. 1844 (2007), nothing in this decision authorizes the following activities at any solid waste rail transfer facility: Collecting, storing or transferring solid waste outside of its original shipping container; or separating or processing solid waste (including baling, crushing, compacting and shredding). The term “solid waste” is defined in section 1004 of the Solid Waste Disposal Act, 42 U.S.C. 6903.

If the verified notice contains false or misleading information, the exemption is void ab initio. Petitions to revoke the exemption under 49 U.S.C. 10502(d) may be filed at any time. The filing of a petition to revoke will not automatically stay the effectiveness of the exemption. Petitions for stay must be filed no later than November 21, 2008 (at least 7 days before the exemption becomes effective).

An original and 10 copies of all pleadings, referring to STB Finance Docket No. 35192, must be filed with the Surface Transportation Board, 395 E Street, SW., Washington, DC 20423-0001. In addition, a copy of each pleading must be served on Janie Sheng, K&L Gates LLP, 1601 K Street, NW., Washington, DC 20006.

Board decisions and notices are available on our Web site at http://www.stb.dot.gov.

Decided: November 7, 2008.
By the Board, David M. Konschnik, Director, Office of Proceedings.
Jeff Herzig,
Clearance Clerk.

[FR Doc. E8-27045 Filed 11-13-08; 8:45 am]

BILLING CODE 4915-01-P